DEPARTMENT OF STATE

[Public Notice: 12902]

Plenary Meeting of the Binational Bridges and Border Crossings Group in Washington, DC

ACTION: Notice of a meeting.

SUMMARY: Delegates from the U.S. and Mexican governments, the states of California, Arizona, New Mexico, and Texas, and the Mexican states of Baja California, Sonora, Chihuahua, Coahuila, Nuevo Laredo, and Tamaulipas will participate in an in-person plenary meeting of the U.S.-Mexico Binational Bridges and Border Crossings Group on Wednesday, April 8, 2026, and Thursday, April 9, 2026, in Washington, DC. The purpose of this meeting is to discuss operational matters involving existing and proposed international bridges and border crossings and their related infrastructure and to exchange technical information as well as views on policy. This meeting will include a public session on Wednesday, April 8, 2026, from 9:00 a.m. until 12:00 p.m. This session will allow interested parties with views on proposed bridges and border crossings and related projects to make presentations to the delegations and members of the public.

DATES: April 8-9, 2026.

FOR FURTHER INFORMATION CONTACT: For further information on the meeting and/or to attend the public session, please contact WHA-BorderAffairs@state.gov, or by mail at the Office of Mexican Affairs, Room 3924, Department of State, 2201 C Street NW, Washington, DC 20520.

Salina Rico,
Border Affairs Officer, Office of Mexican Affairs, U.S. Department of State.

[FR Doc. 2026-04020 Filed 2-27-26; 8:45 am]

BILLING CODE 4710-05-P